ENVIRONMENTAL PROTECTION AGENCY

[EPA-HQ-OECA-2014-0062; FRL-9920-89-OEI]

Information Collection Request Submitted to OMB for Review and Approval; Comment Request; NESHAP for Pesticide Active Ingredient Production (Renewal)

AGENCY: Environmental Protection Agency (EPA).

ACTION: Notice.

SUMMARY: The Environmental Protection Agency has submitted an information collection request (ICR), “NESHAP for Pesticide Active Ingredient Production (40 CFR part 63, subpart MMM) (Renewal)” (EPA ICR No. 1807.08, OMB Control No. 2060-0370) to the Office of Management and Budget (OMB) for review and approval in accordance with the Paperwork Reduction Act (44 U.S.C. 3501 et seq.). This is a proposed extension of the ICR, which is currently approved through June 30, 2015. Public comments were previously requested via the Federal Register (79 FR 30117) on May 27, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before July 30, 2015.

ADDRESSES: Submit your comments, referencing Docket ID Number EPA-HQ-OECA-2014-0062, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: Respondents are owners and operators of pesticides active ingredient production operations. Respondents must submit one-time reports of initial compliance and either semiannual reports or quarterly reports of compliance. Recordkeeping of parameters related to process and air pollution control technologies is required. The reports and records will be used to demonstrate compliance with the standards.

Form Numbers: None.

Respondents/affected entities: Owners and operators of pesticides active ingredient production operations.

Respondent's obligation to respond: Mandatory (40 CFR part 63, subpart MMM).

Estimated number of respondents: 18 (total).

Frequency of response: Initially, quarterly, and semiannually.

Total estimated burden: 12,000 hours (per year). Burden is defined at 5 CFR 1320.3(b).

Total estimated cost: $1,416,000 (per year), includes $236,000 annualized capital or operation & maintenance costs.

Changes in the Estimates: There is an adjustment decrease in the number of responses because this ICR removes leak detection and repair (LDAR) reports. The regulation requires subject sources to include LDAR information in periodic (i.e. semiannual or quarterly) reports. LDAR is not separately reported to EPA; therefore, no additional responses are associated with this activity.

Courtney Kerwin,
Acting Director, Collection Strategies Division.

[FR Doc. 2015-16032 Filed 6-29-15; 8:45 am]

BILLING CODE 6560-50-P